DEPARTMENT OF HEALTH AND HUMAN SERVICES

Health Resources and Services Administration

Notice of a Cooperative Agreement With the National Governors' Association Center for Best Practices

The Health Resources and Services Administration (HRSA) announces the availability of fiscal year (FY) 2000 funds for a cooperative agreement with the National Governors' Association (NGA) Center for Best Practices to develop and convene national and regional policy forums and provide educational and resource materials emanating from these forums for State policymakers on areas addressing the health care needs of the underserved and vulnerable populations, needs of health care providers who serve vulnerable populations, and related public health issues.

The purpose of this project is to assist the NGA in developing a series of national and regional forums to facilitate a better understanding and coordination of public and private health programs designed to assist vulnerable populations and safety net providers. There is no ongoing forum that can convene the high-ranking decisionmakers representing the many Federal, State, provider, and private sector interests around an issue of importance to HRSA. Such a forum will facilitate communication on current and emerging strategies addressing common priorities, and will enable HRSA to better leverage limited resources by improving planning and program design to complement other public and private sector initiatives serving the needs of the same populations. Through this project, NGA will provide assistance to HRSA and HRSA grantees, such as States and local governments, health centers, MCH programs, rural health offices, etc., to evaluate the effectiveness of their programs and initiatives to address the needs of the underserved and targeted populations.

Authorizing Legislation

This program is authorized under sections 330(k) and 761(b) of the Public Health Service Act, as amended, and sections 509 and 711 of the Social Security Act, as amended.

Eligible Applicants

Assistance will be provided only to the NGA Center for Best Practices. No other applications are solicited.

The NGA is the only bipartisan organization that represents governors and their staff of the 50 States, the commonwealths of the Northern Mariana Islands and Puerto Rico, and the U.S. flag territories of American Samoa, Guam, and the Virgin Islands. It is the only national conduit for governors to communicate with each other to share ideas. In addition, the NGA provides a unique network for sharing experiences and information with governors and staffs throughout the nation, including serving as a unique source for policy research, publications, consulting services, and meetings which are tailored to the needs of the governors.

The NGA is the source for information on hundreds of policy issues. It connects governors with policy innovators and national experts. It also uses a variety of technologies and resources to assist governors and their staff that include:

1. Research and analysis for States on emerging and priority issues and innovative State enterprises.

2. Information Clearinghouse to track, evaluate, and disseminate information on State programs and State best practices.

3. Publications with formats designed specifically for the State governors. NGA produces regular reports, policy positions, issue briefs, management briefs, and articles on issues critical to States.

4. NGA conducts national meetings and intensive workshops planned specifically for the governors and their staff to support State-to-State communication on technical issues and assistance in solving State focused problems. As the Nation's only organization that represents and links governors and their staff from all 50 States and the territories, NGA is in a unique position to disseminate information on public health issues to State agencies and convene information-sharing meetings among State government employees, executive branch officials, and staff.

Availability of Funds

Approximately $125,000 is available in FY 2000 to fund this award. It is expected the award will begin on or about April 1, 2000, and will be for a 12-month budget period within a project period of up to 5 years. Funding estimates may vary and are subject to change.

Continuation awards within the approved project period will be made on the basis of satisfactory progress as evidenced by required reports and the availability of funds.

Program Requirements

This project will provide an agency-level cooperative agreement with NGA to address cross-cutting publicly funded health program integration and health access issues identified by the governors and their representatives. Through this project, NGA will provide assistance to HRSA and HRSA grantees, such as States and local governments, health centers, MCH programs, rural health offices, etc., to evaluate the effectiveness of their programs and initiatives to address the needs of the underserved and targeted populations. It will be built around activities that are mutually agreed to by HRSA and NGA, including addressing HRSA priority issues and consultations on the experts who should be invited to participate in the forums with the NGA. Specifically, HRSA will have input into the planning of the forums, including developing the agendas and identifying participants who should be invited to address issues of importance from the Federal perspective at these forums.

The recipient will be responsible for carrying out activities to support the following:

(a) Develop and maintain an information clearinghouse for use by governors and their staff on issues that relate to health care access for underserved and vulnerable populations, to include the prevention, early detection, and control of disease, and strengthening the public health infrastructure and health professions workforce in the States.

(b) Develop, print, and distribute articles, reports, or other documents relating to health care access, unmet population needs, provider capacity, the uses of existing data systems within States to address health care needs of the population, and the complexity of private sector initiatives for use by governors and their staffs and by HRSA grantees.

(c) Convene regional or national meetings of State executive branch employees and others, as appropriate, for discussion of public and private sector strategies and best practices in HRSA priority issues to include appropriate topics and audiences to exchange information. Some of these priority issues include: creating cross-cutting or linked information systems for publicly funded health programs serving similar populations (State Children's Health Insurance Program (SCHIP), Medicaid, Title V of the Social Security Act, Titles I, II, III, and IV of the Ryan White CARE Act) to evaluate the effectiveness of these programs; building upon integrated public health infrastructures which use data to address public health issues of the States; reducing the rate of uninsurance; addressing the unmet needs of the uninsured; addressing ways to facilitate comprehension and participation of low income families in the health care system; improving the quality of care delivered by health care providers; improving the health status of vulnerable populations; and serving as a mechanism to address agency and departmental initiatives, such as oral health and mental health.

(d) Convene small group meetings comprised of selected State program officials and other key stakeholders to address key SCHIP/Medicaid/Title V issues, effective integration of States' activities under SCHIP with HRSA program activities, SCHIP outreach assessment, and emerging issues, such as options for States to provide family coverage and employer-subsidized coverage.

(e) Participate in HRSA-sponsored meetings and events, as appropriate.

(f) Coordinate activities with State and local health department contacts, including public health experts, to ensure that NGA members are aware of public health programs and activities in their State or region.

Where To Obtain Additional Information

Lynnette Araki, Program Analyst, Office of Planning, Evaluation and Legislation, Health Resources and Services Administration (HRSA), 5600 Fishers Lane, Room 14-36, Rockville, Maryland 20857, Telephone (301) 443-6204, E-mail: Laraki@hrsa.gov.

Dated: February 11, 2000.
Claude Earl Fox,
Administrator.

[FR Doc. 00-3917 Filed 2-17-00; 8:45 am]

BILLING CODE 4160-15-P